DEPARTMENT OF THE INTERIOR

National Park Service

Notice of Inventory Completion: Robert S. Peabody Museum of Archaeology, Andover, MA

AGENCY: National Park Service, Interior.

ACTION: Notice.

Notice is here given in accordance with provisions of the Native American Graves Protection and Repatriation Act (NAGPRA), 25 U.S.C. 3003, of the completion of an inventory of human remains and associated funerary objects in the control of the Robert S. Peabody Museum of Archaeology, Andover, MA. The human remains and associated funerary objects were removed from Bartow and Murray Counties, GA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Robert S. Peabody Museum of Archaeology professional staff in consultation with representatives of the Alabama-Quassarte Tribal Town, Oklahoma; Cherokee Nation, Oklahoma; Eastern Band of Cherokee Indians of North Carolina: Kialegee Tribal Town, Oklahoma; Muscogee (Creek) Nation, Oklahoma; Poarch Band of Creek Indians of Alabama; Thlopthlocco Tribal Town, Oklahoma; and United Keetowah Band of Cherokee Indians in Oklahoma.

Between 1925 and 1928, human remains representing a minimum of 99 individuals were removed from the Etowah site, Bartow County, GA, by Warren King Moorehead of the Robert S. Peabody Museum of Archaeology. No known individuals were identified. The 21,468 associated funerary objects are 5,116 miscellaneous beads, 10,725 tubular beads, 3,036 ovoid beads, 188 freshwater periwinkles, 6 sea turtle shell beads, 1 ceramic bead, 3 ceramic bowls, 1 ceramic fragment, 1 ceramic handle, 4 ceramic jars, 1 ceramic pipe, 314 textile fragments (some with copper attached), 315 copper fragments, 69 matting fragments, 76 headdress fragments, 4 flint pieces, 59 copper hair ornaments, 64 potsherds, 325 wood fragments (some with copper attached), 32 modified animal bone and animal bone fragments, 1 basketry fragment, 2 columella ornament fragments, 1 freshwater shell, 1 strombus shell, 402 shells, 12 shell gorgets, 1 shell spoon fragment, 1 axe, 3 bone bayonets, 2 charcoal samples, 4 galena pieces, 2 kaolin cores, 1 leather fragment, 2 Whelk fragments, 1 tooth, 6 stone celts, 166 stones, 1 soil sample, 402 shell and stone discoidals, 1 mineral ore sample, 80 mica fragments, 6 Busycon cups and fragments, and 22 repousse copper plates.

The Etowah site, situated on the Etowah River, was occupied circa A.D. 880-1550 with two breaks in occupation, one circa A.D. 1200-1250 and the other circa A.D. 1400-1450. The first occupation of Etowah was during the Wilbanks Phase (A.D. 1250-1375). The inhabitants of the first occupation were culturally affiliated, possibly ancestrally, to the people who re-occupied the site after A.D. 1450 during the Brewster Phase (A.D. 1450-1550).

Specific cultural practices, such as the use of black drink, Whelk (Busycon) bowls, and repousse copper plates, which are identified with the first occupation of Etowah are still evident in Creek communities today. The building of earthen works, such as those found at Etowah, are considered by Creek communities to be an important part of their historic practice and are echoed today in modern Creek architecture.

In its second phase, Etowah and the geographic areas surrounding it are recognized by modern Muscogee speakers as “daughter” towns, subject to the Coosa chiefdom, which controlled smaller polities throughout the region. The term Coosa applies to the core town, the local “province” and the extended region subject to the control of the core town. A “mother” town is a town from which other towns emerge. “Daughter” towns are created when a mother town becomes too large; they are politically and culturally linked to the mother town, but geographically separate. Linguistic evidence, using historical documents, also links the place name of Etowah to the Muscogee language.

Between 1927 and 1928, human remains representing a minimum of five individuals were removed from the Little Egypt site in Murray County, GA, by Warren King Moorehead of the Robert S. Peabody Museum of Archaeology. The Little Egypt site is 5 hectares and contains two or three platform mounds, which were utilized through the mid-16th century. No known individuals were identified. No associated funerary objects are present.

The Little Egypt site is located at the eastern edge of the Coosa chiefdom where the Coosawattee River enters the Great Valley. The name Coosa applies to the core town, local province, and extended region, and was the most politically important chiefdom in southeastern North America in the 1500s during the time of occupation of the Little Egypt site [Hally et. al., 1989 ]. The oral tradition of Muscogee speakers recognizes two ancestral mother towns, Tukabatchee and Coosa, and particular individuals in present day Creek communities identify themselves as descendants of the mother towns. Muscogee oral tradition and historic documents indicate the area in and around Little Egypt as the paramount chiefdom of Coosa, home to the chief and the core town. Although it cannot be definitively stated that Little Egypt was the core town, size and other attributes single it out as an important site in the Coosa political landscape.

The decline in archeological evidence of settlements, including public works and burial goods, in the Coosa area in the early 17th century suggests population decline and movement, perhaps the result of disease. The increase in settlements and the rise of a brushed pottery style that appears to be the melding of several Creek styles suggests that the inhabitants of 16th and early 17th century communities in the Coosa River drainage, as well as those along the Coosawatte and Etowah rivers, including the inhabitants at the Little Egypt site, probably moved southwest to the Lower Coosa River during the late 17th century [Smith, 1987]. Historic documentation indicates that Muscogee speakers were living along the Lower Coosa River at the turn of the 18th century and were likely the descendants of the inhabitants of the Little Egypt site.

Present-day Creek communities are the Alabama-Quassarte Tribal Town, Oklahoma; Kialegee Tribal Town, Oklahoma; Muscogee (Creek) Nation, Oklahoma; Poarch Band of Creek Indians of Alabama; and Thlopthlocco Tribal Town, Oklahoma.

Officials of the Robert S. Peabody Museum of Archaeology have determined that, pursuant to 25 U.S.C. 3001 (9-10), the human remains described above represent the physical remains of 104 individuals of Native American ancestry. Officials of the Robert S. Peabody Museum of Archaeology also have determined that, pursuant to 25 U.S.C. 3001 (3)(A), the 21,468 objects described above are reasonably believed to have been placed with or near individual human remains at the time of death or later as part of a death rite or ceremony. Lastly, officials of the Robert S. Peabody Museum of Archaeology have determined that, pursuant to 25 U.S.C. 3001 (2), there is a relationship of shared group identity that can be reasonably traced between the Native American human remains and associated funerary objects and the Alabama-Quassarte Tribal Town, Oklahoma; Kialegee Tribal Town, Oklahoma; Muscogee (Creek) Nation, Oklahoma; Poarch Band of Creek Indians of Alabama; and Thlopthlocco Tribal Town, Oklahoma.

Representatives of any other Indian tribe that believes itself to be culturally affiliated with the human remains and associated funerary objects should contact Victoria Cranner, Senior Collections Manager, Robert S. Peabody Museum of Archaeology, Phillips Academy, Andover, MA 01810, telephone (978) 749-4490 before October 13, 2005. Repatriation of the human remains and associated funerary objects to the Alabama-Quassarte Tribal Town, Oklahoma; Kialegee Tribal Town, Oklahoma; Muscogee (Creek) Nation, Oklahoma; Poarch Band of Creek Indians of Alabama; and Thlopthlocco Tribal Town, Oklahoma may proceed after that date if no additional claimants come forward.

The Robert S. Peabody Museum of Archaeology is responsible for notifying the Alabama-Quassarte Tribal Town, Oklahoma; Cherokee Nation, Oklahoma; Eastern Band of Cherokee Indians of North Carolina; Kialegee Tribal Town, Oklahoma; Muscogee (Creek) Nation, Oklahoma; Poarch Band of Creek Indians of Alabama; Thlopthlocco Tribal Town, Oklahoma; and United Keetowah Band of Cherokee Indians in Oklahoma that this notice has been published.

Dated: August 4, 2005
Sherry Hutt,
Manager, National NAGPRA Program.

[FR Doc. 05-18073 Filed 9-12-05; 8:45 am]

BILLING CODE 4312-50-S